DEPARTMENT OF THE INTERIOR

Bureau of Land Management

[CO-200-1430-EQ COC-63465]

Notice of Realty Action—Chaffee County, CO

AGENCY: Bureau of Land Management, Interior.

ACTION: Notice of realty action COC-63465, Federal Land Policy and Management Act Section 302 Lease, in Chaffee County, Colorado.

SUMMARY: The following public land, northeast of Salida, Colorado is available for lease under Section 302 of the Federal Land Policy and Management Act of 1976 as amended, and the regulations thereunder 43 CFR 2920 for agricultural use.

New Mexico Principal Meridian, Colorado

T. 50 N., R. 8E., Section 14 S½S½SE¼NE¼, an 800 foot by 200 foot portion consisting of approximately 3.67 acres.

Adjacent landowner Chris Nachtrieb would be offered a 20 year lease to allow a center pivot irrigation system that exists on his adjacent private land to cross and irrigate the above described Public land as well as operate a hay production operation thereon.

DATES: Interested parties may submit comments on this action on or before June 15, 2000.

ADDRESSES: Field Officer Manager, Bureau of Land Management, 3170 East Main St., Canon City, CO 81212.

FOR FURTHER INFORMATION CONTACT: David Hallock, BLM Realty Specialist, at the above address, e-mail dave_hallock@CO.BLM.gov, or phone: (719) 269-8536.

SUPPLEMENTARY INFORMATION: The pivot irrigation system is crossing the corner of an isolated 40 acre parcel of Public land that is surrounded by private land and is without legal public access.

Levi D. Deike,
Field Office Manager.

[FR Doc. 00-10586 Filed 4-27-00; 8:45 am]

BILLING CODE 4310-JB-P